INTERNATIONAL TRADE COMMISSION

[Investigation No. 731-TA-1079 (Final)]

Polyethylene Terephthalate (“PET”) Resin From Taiwan

AGENCY: United States International Trade Commission.

ACTION: Termination of investigation.

SUMMARY: On March 21, 2005, the Department of Commerce published notice in the Federal Register of a final determination of sales at not less than fair value in connection with the subject investigation (70 FR 13454). Accordingly, pursuant to section 207.40(a) of the Commission's Rules of Practice and Procedure (19 CFR 207.40(a)), the antidumping duty investigation concerning PET resin from Taiwan (investigation No. 731-TA-1079 (Final)) is terminated.

DATES: Effective Date: March 21, 2005.

FOR FURTHER INFORMATION CONTACT: Russell Duncan (202-708-4727), Office of Investigations, U.S. International Trade Commission, 500 E Street SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

Authority: This investigation is being terminated under authority of title VII of the Tariff Act of 1930; this notice is published pursuant to section 201.10 of the Commission's rules (19 CFR 201.10).

By order of the Commission.
Issued: March 24, 2005.
Marilyn R. Abbott,
Secretary to the Commission.

[FR Doc. 05-6128 Filed 3-28-05; 8:45 am]

BILLING CODE 7020-02-P